DEPARTMENT OF LABOR

Employment and Training Administration

[TA-W-72,773]

Clark Engineering Co., Inc., Including On-Site Leased Workers From Kelly Services and Qualified Staffing, Owosso, MI; Amended Certification Regarding Eligibility To Apply for Worker Adjustment Assistance

In accordance with Section 223 of the Trade Act of 1974, as amended (“Act”), 19 U.S.C. 2273, the Department of Labor issued a Certification of Eligibility to apply for Worker Adjustment Assistance on January 7, 2010, applicable to workers of Clark Engineering Co., Inc., including on-site leased workers of Kelly Services, Owosso, Michigan. The notice was published in the Federal Register February 16, 2010 (75 FR 7036).

At the request of the State Agency, the Department reviewed the certification for workers of the subject firm. The workers are engaged in activities related to the production of metal parts.

The company reports that workers leased from Qualified Staffing were employed on-site at the Owosso, Michigan location of Clark Engineering Co., Inc. The Department has determined that these workers were sufficiently under the control of the subject firm to be considered leased workers.

Based on these findings, the Department is amending this certification to include workers leased from Qualified Staffing working on-site at the Owosso, Michigan location of Clark Engineering Co., Inc.

The amended notice applicable to TA-W-72,773 is hereby issued as follows:

All workers of Clark Engineering Co., Inc., including on-site leased workers of Kelly Services and Qualified Staffing, Owosso, Michigan, who became totally or partially separated from employment on or after October 14, 2008, through January 7, 2012, and all workers in the group threatened with total or partial separation from employment on the date of certification through two years from the date of certification, are eligible to apply for adjustment assistance under Chapter 2 of Title II of the Trade Act of 1974, as amended.

Signed in Washington, DC, this 3rd day of May, 2010.
Elliott S. Kushner,
Certifying Officer, Division of Trade Adjustment Assistance.

[FR Doc. 2010-12109 Filed 5-19-10; 8:45 am]

BILLING CODE 4510-FN-P